DEPARTMENT OF THE TREASURY

Internal Revenue Service

26 CFR Part 1

[TD 9447]

RIN 1545-BG80

Automatic Contribution Arrangements

Correction

In rule document E9-3716 beginning on page 8200 in the issue of Tuesday, February 24, 2009, make the following correction:

§1.401(m)-2 [Corrected]

On page 8211, in §1.401(m)-2, in the first column, in paragraph (b)(2)(iv)(D), in the sixth line, “April 1, 2007 edition” should read “April 1, 2007, edition”.

[FR Doc. Z9-3716 Filed 3-24-09; 8:45 am]

BILLING CODE 1505-01-D